TENNESSEE VALLEY AUTHORITY

Meeting of the Regional Resource Stewardship Council

AGENCY: Tennessee Valley Authority (TVA).

ACTION: Notice of meeting.

SUMMARY: TVA will convene a meeting of the Regional Resource Stewardship Council (Regional Council) to obtain views and advice on the topic of TVA's draft recreation strategy. Under the TVA Act, TVA is charged with the proper use and conservation of natural resources for the purpose of fostering the orderly and proper physical, economic and social development of the Tennessee Valley region. The Regional Council was established to advise TVA on its natural resource stewardship activities. Notice of this meeting is given under the Federal Advisory Committee Act, 5 U.S.C. App. 2, (FACA).

The meeting agenda includes the following:

(1) Overview of water quality partnerships.

(2) Reservoir releases improvement program.

(3) Water quality improvement efforts of the Izaak Walton League.

(4) Clean marina efforts on Fontana Reservoir.

(5) Water quality improvement efforts of the Hiwassee River Watershed Coalition and Little River Water Quality Forum.

(6) TVA's draft recreation strategy.

(7) Public comments on the topic of TVA's recreation strategy.

(8) Council discussion and advice on TVA's recreation strategy.

The Regional Council will hear opinions and views of citizens by providing a public comments session. The public comment session will be held from 9:30 to 10:30 a.m. e.d.t. on Wednesday, August 24, 2005. Citizens who wish to express views and opinions on the topic of TVA's recreation strategy may do so during the Public Comment portion of the agenda. Public Comments participation is available on a first-come, first-served basis. Speakers addressing the Regional Council are requested to limit their remarks to no more than 5 minutes. Persons wishing to speak are requested to register at the door and are then called on by the Regional Council Chair during the public comment period. Handout materials should be limited to one printed page. Written comments are also invited and may be mailed to the Regional Resource Stewardship Council, Tennessee Valley Authority, 400 West Summit Hill Drive, WT 11A, Knoxville, Tennessee 37902.

DATES: The meeting will be held on Tuesday, August 23, 2005, from 8 a.m. to 5 p.m. and on Wednesday, August 24, 2005, from 8 a.m. to 1 p.m. eastern daylight time.

ADDRESSES: The meeting will be held in the auditorium at the Tennessee Valley Authority headquarters, 400 West Summit Hill Drive, Knoxville, Tennessee 37902, and will be open to the public. Anyone needing special access or accommodations should let the contact below know at least a week in advance.

FOR FURTHER INFORMATION CONTACT: Sandra L. Hill, 400 West Summit Hill Drive, WT 11A, Knoxville, Tennessee 37902 (865) 632-2333.

Dated: July 27, 2005.
Kathryn J. Jackson,
Executive Vice President, River System Operations & Environment, Tennessee Valley Authority.

[FR Doc. 05-15193 Filed 8-1-05; 8:45 am]

BILLING CODE 8120-08-M